DEPARTMENT OF HEALTH AND HUMAN SERVICES

National Institutes of Health

Office of the Director, National Institutes of Health; Amended Notice of Meeting

Notice is hereby given of a change in the meeting of the Recombinant DNA Advisory Committee, September 20, 2006, 1 p.m. to 5 p.m., National Institutes of Health, Natcher Building, 45 Center Drive, Conference Room D, Bethesda, MD 20892 which was published in the Federal Register on August 18, 2006, 71 FR 160 page 47821.

The meeting will be held from 12 p.m. to 6 p.m. instead of 1 p.m. to 5 p.m. The meeting is open to the public.

Dated: August 30, 2006.
Anna Snouffer,
Acting Director, Office of Federal Advisory Committee Policy.

[FR Doc. 06-7464 Filed 9-6-06; 8:45 am]

BILLING CODE 4140-01-M